DEPARTMENT OF COMMERCE

International Trade Administration

[A-570-864, A-823-805]

Silicomanganese From the People's Republic of China and Ukraine: Final Results of Expedited Fourth Sunset Reviews of the Antidumping Duty Orders

AGENCY: Enforcement and Compliance, International Trade Administration, Department of Commerce.

SUMMARY: As a result of these sunset reviews, the Department of Commerce (Commerce) finds that revocation of the antidumping duty (AD) orders on silicomanganese from the People's Republic of China (China) and Ukraine would be likely to lead to continuation or recurrence of dumping at the dumping margins identified in the “Final Results of Review” section of this notice.

DATES: Applicable February 8, 2018.

FOR FURTHER INFORMATION CONTACT: Joseph Degreenia, AD/CVD Operations, Office III, Enforcement and Compliance, International Trade Administration, U.S. Department of Commerce, 1401 Constitution Avenue NW, Washington, DC 20230; telephone: (202) 482-6430.

SUPPLEMENTARY INFORMATION:

Background

On October 4, 2017, Commerce published the notice of initiation of the fourth sunset reviews of the antidumping duty orders ¹ on silicomanganese from China and Ukraine, pursuant to section 751(c) of the Tariff Act of 1930, as amended (the Act).² On October 19, 2017, Commerce received a notice of intent to participate from Eramet Marietta, Inc. (Eramet), within the deadline specified in 19 CFR 351.218(d)(1)(i).³ On October 9, 2017, Commerce received a letter from the Trade Defense Department of the Ministry of Economic Development and Trade (TDDMEDT) of Ukraine in which TDDMEDT stated its intent to participate as an interested party in this proceeding.⁴ Eramet claimed interested party status under section 771(9)(C) of the Act, as a domestic producer of silicomanganese.⁵ On November 3, 2017, Commerce received complete substantive responses from Eramet within the 30-day deadline specified in 19 CFR 351.218(d)(3)(i).⁶ We received no substantive response from any other domestic or respondent interested parties in this proceeding, nor was a hearing requested. As a result, pursuant to 19 CFR 351.218(e)(1)(ii)(C), Commerce conducted expedited (120-day) sunset reviews of the AD Orders. Commerce has exercised its discretion to toll deadlines for the duration of the closure of the Federal Government from January 20 through 22, 2018. If the new deadline falls on a non-business day, in accordance with Commerce's practice, the deadline will become the next business day. The revised deadline for the final results of these sunset reviews is now February 5, 2018.⁷

¹ See Notice of Antidumping Duty Order: Silicomanganese from the People's Republic of China (PRC), 59 FR 66003 (December 22, 1994) and Suspension Agreement on Silicomanganese from Ukraine; Termination of Suspension Agreement and Notice of Antidumping Duty Order, 66 FR 43838, August 21, 2001 (AD Orders).

² See Initiation of Five-Year (Sunset) Reviews, 82 FR 46221 (October 4, 2017).

³ See letters from Eramet, “Five-Year (“Sunset”) Review of Antidumping Duty Order on Silicomanganese from the People's Republic of China: Notice of Intent to Participate,” dated October 19, 2017 (Eramet China NOITP) and “Five-Year (“Sunset”) Review of Antidumping Duty Order on Silicomanganese from Ukraine: Notice of Intent to Participate,” dated October 19, 2017 (Eramet Ukraine NOITP).

⁴ See letter from Government of Ukraine, “Entry of Appearance: Five-Year “Sunset” Review of the Antidumping Duty Order on Silicomanganese from China, and Ukraine (4th Review), DOC Case No. A-823-805,” dated October 9, 2017.

⁵ See Eramet China NOITP, at 1; and Eramet Ukraine NOITP, at 1.

⁶ See letters from Eramet, “Five-Year (“Sunset”) Review of Antidumping Duty Order on Silicomanganese from the People's Republic of China: Eramet's Substantive Response to Notice of Initiation,” dated November 3, 2017 (Eramet China Substantive Response) and “Five-Year (“Sunset”) Review of Antidumping Duty Order on Silicomanganese from Ukraine: Eramet's Substantive Response to Notice of Initiation,” dated November 3, 2017 (Eramet Ukraine Substantive Response).

⁷ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Scope of the AD Orders

The merchandise covered by these orders is silicomanganese. Silicomanganese, which is sometimes called ferrosilicon manganese, is a ferroalloy composed principally of manganese, silicon, and iron, and normally contains much smaller proportions of minor elements, such as carbon, phosphorous and sulfur. Silicomanganese generally contains by weight not less than 4 percent iron, more than 30 percent manganese, more than 8 percent silicon and not more than 3 percent phosphorous. All compositions, forms and sizes of silicomanganese are included within the scope of these orders, including silicomanganese slag, fines and briquettes. Silicomanganese is used primarily in steel production as a source of both silicon and manganese.

Silicomanganese is currently classifiable under subheading 7202.30.0000 of the Harmonized Tariff Schedule of the United States (HTSUS). Some silicomanganese may also currently be classifiable under HTSUS subheading 7202.99.5040.⁸ The AD Orders cover all silicomanganese, regardless of its tariff classification. Although the HTSUS subheadings are provided for convenience and customs purposes, the written description of the AD Orders remains dispositive.⁹

⁸ 7202.99.5040 is the applicable HTSUS statistical reporting prior to July 2, 2003. Effective July 2, 2003, the subject merchandise that would originally have entered under 7202.99.5040 now enters under 7202.99.8040.

⁹ See Continuation of Antidumping Duty Orders: Silicomanganese from the People's Republic of China and Ukraine, 77 FR 66956 (November 8, 2012).

Analysis of Comments Received

All issues raised in these sunset reviews, including the likelihood of continuation or recurrence of dumping and the magnitude of the margins likely to prevail if the AD Orders were revoked, are addressed in the Issues and Decision Memorandum,¹⁰ dated concurrently with, and hereby adopted by this notice. The Issues and Decision Memorandum is a public document and is on file electronically via Enforcement and Compliance's Antidumping and Countervailing Duty Centralized Electronic Service System (ACCESS). ACCESS is available to registered users at https://access.trade.gov and to all parties in the Central Records Unit, Room B8024 of the main Department of Commerce building. In addition, a complete version of the Issues and Decision Memorandum can be accessed at http://enforcement.trade.gov/frn/. The signed Issues and Decision Memorandum and the electronic version of the Issues and Decision Memorandum are identical in content.

¹⁰ See Commerce's memorandum, “Issues and Decision Memorandum for the Final Results of the Expedited Fourth Sunset Review of the Antidumping Duty Order on Silicomanganese from the People's Republic of China and Ukraine,” dated concurrently with this notice (Issues and Decision Memorandum).

Final Results of Reviews

Pursuant to sections 751(c)(1) and 752(c)(1) and (3) of the Act, we determine that revocation of the AD Orders on silicomanganese from China and Ukraine would be likely to lead to continuation or recurrence of dumping, and that the magnitude of the dumping margins likely to prevail would be weighted-average dumping margins up to 150 percent for China and 163 percent for Ukraine.

Notification Regarding Administrative Protective Order

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752(c), and 777(i)(1) of the Act and 19 CR 351.218.

Dated: February 2, 2018.
Gary Taverman,
Deputy Assistant Secretary for Antidumping and Countervailing Duty Operations, performing the non-exclusive functions and duties of the Assistant Secretary for Enforcement and Compliance.

[FR Doc. 2018-02523 Filed 2-7-18; 8:45 am]

BILLING CODE 3510-DS-P